FEDERAL DEPOSIT INSURANCE CORPORATION

Agency Information Collection Activities: Proposed Collection Renewals; Comment Request (3064-0109 & -0162)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995 (44 U.S.C. chapter 35). Currently, the FDIC is soliciting comment on renewal of the information collections 3064-0109 & -0162, described below.

DATES: Comments must be submitted on or before September 2, 2014.

ADDRESSES: Interested parties are invited to submit written comments to the FDIC by any of the following methods:

• http://www.FDIC.gov/regulations/laws/federal/

• Email: comments@fdic.gov Include the name and number of the collection in the subject line of the message.

• Mail: Gary A. Kuiper (202-898-3877), Counsel, Room NYA-5046, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Gary A. Kuiper, at the FDIC address above.

SUPPLEMENTARY INFORMATION:

Proposal to Renew the Following Currently-Approved Collections of Information

1. Title: Notice of Branch Closure

OMB Number: 3064-0109.

Frequency of Response: On occasion.

Affected Public: State nonmember banks and state savings associations.

Estimated Number of Respondents: 2125.

Estimated Time per Response: 2.1 hours.

Total Annual Burden: 4400 hours.

General Description of Collection: Section 42 of the Federal Deposit Insurance Act mandates that an institution proposing to close a branch give its primary regulator no less than 90 days written notice. Notices of closure are submitted on occasion as needed. Also, each insured depository institution must adopt branch closing policies. The adoption of policies is a one-time activity, repeated only if the institution finds need to revise its policy.

2. Title: Large-Bank Deposit Insurance Programs

OMB Number: 3064-0162.

Frequency of Response: On occasion.

Affected Public: Insured depository institutions having at least $2 billion in domestic deposits and either at least: (i) 250,000 deposit accounts; or (ii) $20 million in total assets.

Estimated Number of Respondents: 151.

Estimated Time per Response: 132.4-215.2 hours.

Total Annual Burden: 19,992-32,495.2 hours.

General Description of Collection:

Insured depository institutions having at least $2 billion in domestic deposits and either: (1) More than 250,000 deposit accounts; or (2) total assets over $20 billion, regardless of the number of deposit accounts are required to adopt mechanisms that, in the event of the institution's failure: (1) provide the FDIC with standard deposit account and customer information; and (2) allow the FDIC to place and release holds on liability accounts, including deposits.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 26th day of June, 2014.
Federal Deposit Insurance Corporation.
Robert E. Feldman,
Executive Secretary.

[FR Doc. 2014-15361 Filed 6-30-14; 8:45 am]

BILLING CODE 6714-01-P